DEPARTMENT OF ENERGY

Federal Energy Regulatory Commission

[IC06-585-001, FERC 585]

Commission Information Collection Activities, Proposed Collection; Comment Request; Extension

May 18, 2006.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received no comments in response to an earlier Federal Register notice of February 24, 2006 (71 FR 9529-9530) and has made this notation in its submission to OMB.

DATES: Comments on the collection of information are due by June 26, 2006.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-34, Attention: Michael Miller, 888 First Street, NE., Washington, DC 20426. Comments may be filed either in paper format or electronically. Those persons filing electronically do not need to make a paper filing. For paper filings, an original and 14 copies of such comments should be submitted to the Secretary of the Commission, Federal Energy Regulatory Commission, 888 First Street, NE., Washington, DC 20426 and should refer to Docket No. IC06-587-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at (866) 208-3676. or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC Form 585 “Reporting of Electric Energy

Shortages and Contingency Plans under PURPA”.

2. Sponsor: Federal Energy Regulatory Commission.

3. Control No.: 1902-0138.

The Commission is now requesting that OMB approve and extend the expiration date for an additional three years with no changes to the existing collection. The information filed with the Commission is mandatory.

4. Necessity of the Collection of Information: Submission of the information is necessary for the Commission to carry out its responsibilities in implementing the statutory provisions of section 206 of the Public Utility Regulatory Policies Act of 1979 (PURPA) Public Law 95-617, 92 Stat. 3117. Section 206 of PURPA amended the Federal Power Act (FPA) by adding a new subsection (g) to section 202, under which the Commission by rule, was to require each public utility to (1) report to the Commission and appropriate state regulatory authorities of any anticipated shortages of electric energy or capacity which would affect the utility's capability to serve its wholesale customers; and (2) report to the Commission and any appropriate state regulatory authority in a contingency plan that would outline what circumstances might give rise for such occurrences.

In FERC Order No. 575 (60 FR 4859, January 25, 1995) the Commission modified the reporting requirements in 18 CFR 294.101(b) to provide that if a public utility includes in its rates schedule a provision that: (a) During electric energy and capacity shortages it will treat firm power wholesale customers without undue discrimination or preference; and (b) it will report any modifications to its contingency plan for accommodating shortages within 15 days to the appropriate state regulatory agency and to the affected wholesale customers, then the utility need not file with the Commission an additional statement of the contingency plan for accommodating such shortages. This revision merely changed the reporting mechanism; the public utility's contingency plan would be located in its filed rate rather than in a separate document.

In FERC Order No. 659, (70 FR 35027-28, June 16, 2006) the Commission revised its regulations to provide an alternative means for public utilities to report shortages of electric energy and capacity by submitting an electronic filing via the Commission's Division of Reliability's pager system at emergency@ferc.gov instead of filing with the Secretary of the Commission.

The Commission uses the information to evaluate and formulate appropriate an option for action in the event an unanticipated shortage is reported and/or materializes. Without this information, the Commission and State agencies would be unable to: (1) Examine, approve or modify utility actions, (2) prepare a response to anticipated disruptions in electric energy and (3) ensure equitable treatment of all public utility customers under the shortage situations. The Commission implements these filings requirements in the Code of Federal Regulations (CFR) under 18 CFR part 294.

5. Respondent Description: The respondent universe currently comprises 7 companies (on average) subject to the Commission's jurisdiction.

6. Estimated Burden: 511 total hours, 7 respondents (average), 1 response per respondent, and 73 hours per response (average).

7. Estimated Cost Burden to Respondents: 511 hours/2080 hours per years × $112,767 per year = $ 27,704. The cost per respondent is equal to $3,958.

Statutory Authority: Statutory provisions of section 206 of the Public Utility Regulatory Policies Act of 1979 (PURPA) Pub. L. 95-617, 92 Stat. 3117.

Magalie R. Salas,
Secretary.

[FR Doc. E6-7959 Filed 5-23-06; 8:45 am]

BILLING CODE 6717-01-P